DEPARTMENT OF LABOR

Agency Information Collection Activities; Submission for OMB Review; Comment Request; PSM On-Site Consultation Agreements

ACTION: Notice of availability; request for comments.

SUMMARY: The Department of Labor (DOL) is submitting this Occupational Safety & Health Administration (OSHA)-sponsored information collection request (ICR) to the Office of Management and Budget (OMB) for review and approval in accordance with the Paperwork Reduction Act of 1995 (PRA). Public comments on the ICR are invited.

DATES: The OMB will consider all written comments that the agency receives on or before July 27, 2023.

ADDRESSES: Written comments and recommendations for the proposed information collection should be sent within 30 days of publication of this notice to www.reginfo.gov/public/do/PRAMain. Find this particular information collection by selecting “Currently under 30-day Review—Open for Public Comments” or by using the search function. Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

FOR FURTHER INFORMATION CONTACT: Nicole Bouchet by telephone at 202-693-0213, or by email at DOL_PRA_PUBLIC@dol.gov.

SUPPLEMENTARY INFORMATION: OSHA provides guidance to State On-Site Consultation programs to meet the requirements of the On-Site Consultation regulations, 29 CFR part 1908, through the OSHA Consultation Policies and Procedures Manual (CPPM), CSP 02-00-004, March 19, 2021. The CPPM complies with the requirements of 29 CFR 1908 to specify the framework for administering and managing the OSHA On-Site Consultation Program, and to establish policies and procedures. The On-Site Consultation Program is administered by OSHA's Directorate of Cooperative and State Programs (DCSP), Office of Small Business Assistance (OSBA). The “On-Site Consultation Program” is the Program administered by OSHA for the implementation of Consultation programs by U.S. States and territories. “On-Site Consultation program” refers to a State/U.S. territory operated program that provides no-cost consultative services to small- and medium-sized businesses. OSHA is seeking approval of the Process Safety Management (PSM) policy and procedures for the On-Site Consultation Program to apply when they assess PSM processes at small- or medium-sized business workplaces. This establishes the framework for a consistent and thorough evaluation of PSM processes to enhance the quality of Consultation services provided to employers who request such services. OSHA is also requesting a clearance for 4 information collections in the CPPM that have been in use without an OMB number to assure compliance with the Paperwork Reduction Act. The CPPM prescribes the policies and procedures for the application of the following worksheets: Interim Year SHARP Site Self-Evaluation Template, Action Plan Template for SHARP or Pre-SHARP Participation, Optional Safety and Health Program Action Plan Tool for Implementation at Workplaces, and Incident Investigation Reporting Templates. For additional substantive information about this ICR, see the related notice published in the Federal Register on February 22, 2023 (88 FR 10938).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-OSHA.

Title of Collection: PSM On-Site Consultation Agreements.

OMB Control Number: 1218-0NEW.

Affected Public: State, Local and Tribal Governments; Private Sector—Businesses or other for-profits.

Total Estimated Number of Respondents: 4,241.

Total Estimated Number of Responses: 6,841.

Total Estimated Annual Time Burden: 26,766 hours.

Total Estimated Annual Other Costs Burden: $0.

(Authority: 44 U.S.C. 3507(a)(1)(D))

Nicole Bouchet,
Senior PRA Analyst.

[FR Doc. 2023-13536 Filed 6-26-23; 8:45 am]

BILLING CODE 4510-26-P